DEPARTMENT OF TRANSPORTATION

National Highway Traffic Safety Administration

Reports, Forms, and Record Keeping Requirements Agency Information Collection Activity Under OMB Review

AGENCY: National Highway Traffic Safety Administration (NHTSA), U.S. Department of Transportation (DOT).

ACTION: Notice

SUMMARY: In compliance with the Paperwork Reduction Act of 1995 (44 U.S.C. 3501 et seq.), this notice announces that the Information Collection Request (ICR) abstracted below has been forwarded to the Office of Management and Budget (OMB) for review and comment. The ICR describes the nature of the information collection and its expected burden. The Federal Register Notice with a 60-day comment period soliciting public comments was published on March 25, 2015 (Federal Register/Vol. 80, No. 57/pp. 15866-15867).

DATES: Comments must be submitted on or before September 8, 2015.

ADDRESSES: Send comments, within 30 days, to the Office of Information and Regulatory Affairs, Office of Management and Budget, 725-17th Street NW., Washington, DC 20503, Attention NHTSA Desk Officer.

FOR FURTHER INFORMATION CONTACT: Dr. Kathy Sifrit, 202-366-0868.

SUPPLEMENTARY INFORMATION: Title: Older Drivers' Self-Regulation and Exposure.

Type of Request: New information collection requirement.

Abstract: Research has shown that drivers 75 and over have a crash rate nearly double that of drivers between the ages of 25 and 65. In addition to increased crash rates, older drivers are also more likely to be killed in automobile crashes when compared to younger age groups. Some research showed that drivers aged 75 to 79 were 3.5 times more likely to be killed in an automobile crash than drivers 30 to 65 years of age. This ratio jumped to 9.5 after age 80. Factors such as declining cognitive and motor skills may help explain these older driver crash statistics. Some older drivers may attempt to offset any functional declines by adopting compensatory or self-regulatory behaviors (e.g., slowing down, braking earlier, limiting conditions or times of day in which they drive, and/or voluntarily giving up driving).

This research effort is focused on determining how much older drivers self-regulate their driving through changes in behaviors or by reducing exposure. The project involves an initial questionnaire collecting information from licensed drivers about their age, driver license status, driving habits, vehicle type and age, and the extent to which they self-limit their driving exposure. The project plans to recruit a total of 60 participants, 20 of whom are 60-69, 20 who are 70-79, and 20 who are 80+ years of age. Staff will attempt to recruit equal numbers of males and females in each age group and to distribute the ages across each interval. Qualifying participants will have a tracking device installed in the vehicle for approximately 30 days. The device will record all trips made by the participant. At the end of the 30-day tracking period, each participant will be asked to take a battery of standard clinical functional measures and complete an on-road driving assessment administered by a certified driving rehabilitation specialist. Researchers will examine the driving behaviors of participants based on age group and other covariates collected during the initial questionnaire and assessments.

The results of this project will assist NHTSA in determining the relative extent to which older drivers appear to be aware of their cognitive and motor skill deterioration, and whether their perception of declining ability was affecting driving behaviors and exposure.

Affected Public: Participants will include 60 licensed drivers who drive a minimum of 3 trips per week, 20 of whom are 60-69, 20 who are 70-79, and 20 who are 80+ years of age.

Estimated Total Annual Burden: 120 hours maximum.

Comments are invited on the following:

(i) Whether the proposed collection of information is necessary for the proper performance of the functions of the agency, including whether the information will have practical utility;

(ii) the accuracy of the Department's estimate of the burden of the proposed information collection;

(iii) ways to enhance the quality, utility and clarity of the information to be collected; and

(iv) ways to minimize the burden of the collection of information on respondents, including the use of automated collection techniques or other forms of information technology.

A comment to OMB is most effective if OMB receives it within 30 days of publication of this notice.

Authority: 44 U.S.C. Section 3506(c)(2)(A).

Issued on: August 4, 2015.
Jeff Michael,
Associate Administrator, Research and Program Development.

[FR Doc. 2015-19453 Filed 8-6-15; 8:45 am]

BILLING CODE 4910-59-P